DEPARTMENT OF DEFENSE

Defense Acquisition Regulations System

[Docket Number DARS-2024-0010; OMB Control Number 0704-0519]

Information Collection Requirement; Defense Federal Acquisition Regulation Supplement (DFARS) Subpart 204.17, Service Contracts Inventory

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by July 29, 2024.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS) Subpart 204.17, Service Contracts Inventory and Associated Clause; OMB Control Number 0704-0519.

Type of Request: Extension of a currently approved collection.

Affected Public: Businesses or other for-profit and not-for-profit institutions.

Respondent's Obligation: Required to obtain or retain benefits.

Frequency: On Occasion.

Number of Respondents: 1,895.

Responses per Respondent: 2.91.

Annual Responses: 5,515.

Average Burden per Response: 2 hours.

Annual Burden Hours: 11,030.

Needs and Uses: This information collection covers the burden hours related to the requirement at DFARS subpart 204.17, Service Contracts Inventory, and its associated clause, 252.204-7023, Reporting Requirements for Contracted Services. The burden has been updated with current data obtained from the System for Award Management, which is the system used by contractors for submission of reports for this information collection.

DFARS subpart 204.17 and the clause at 252.204-7023 implement 10 U.S.C. 4505 (formerly 10 U.S.C. 2330a), as amended by section 812 of National Defense Authorization Act for Fiscal Year 2017, which requires DoD to establish a data collection system to provide certain management information with regard to each purchase of services by a military department or defense agency that exceeds $3 million for services in the following service acquisition portfolio groups: logistics management services, equipment-related services, knowledge-based services, and electronics and communications services.

The basic DFARS clause 252.204-7023, Reporting Requirements for Contracted Services, and its alternate I require a contractor to report annually, in the System for Award Management, on the services performed under the contract or order, during the preceding Government fiscal year. Specifically, the contractor is required to report the following: the total dollar amount invoiced for services performed during the preceding fiscal year; and the number of direct labor hours, including subcontractor hours (when applicable), expended on services performed during the previous Government fiscal year.

This information collection will provide DoD with the ability to identify and report annually to Congress, in accordance with 10 U.S.C. 4505, on the inventory of contractor service contract actions. As an adjunct, the information will support DoD's total force management and in making strategic workforce planning and budget decisions pursuant to 10 U.S.C. 129a.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2024-14088 Filed 6-26-24; 8:45 am]

BILLING CODE 6001-FR-P